DEPARTMENT OF THE INTERIOR

Fish and Wildlife Service

[FWS-R5-ES-2021-N194; FXES11130500000-201-FF05E00000]

Endangered and Threatened Wildlife and Plants; Initiation of 5-Year Reviews of Eight Northeastern Species

AGENCY: Fish and Wildlife Service, Interior.

ACTION: Notice of initiation of reviews; request for information.

SUMMARY: We, the U.S. Fish and Wildlife Service (Service), are initiating 5-year reviews under the Endangered Species Act, as amended, for eight northeastern species. A 5-year review is based on the best scientific and commercial data available at the time of the review. We are requesting submission of any such information that has become available since the previous 5-year review for each species.

DATES: To ensure consideration, please submit your written information by December 8, 2021. However, we will continue to accept new information about any listed species at any time.

ADDRESSES: For instructions on how and where to submit information, see Request for New Information and Table 2—Contacts under SUPPLEMENTARY INFORMATION.

FOR FURTHER INFORMATION CONTACT:

General Information: Martin Miller, via email at martin_miller@fws.gov, and via U.S. mail at U.S. Fish and Wildlife Service, 300 Westgate Center Drive, Hadley, MA 01035.

Species-Specific Information and Submission of Comments: Contact the appropriate person or office listed in Table 2—Contacts in SUPPLEMENTARY INFORMATION.

Individuals who are deaf or hard of hearing may call the Federal Relay Service at 1-800-877-8339 for TTY assistance.

SUPPLEMENTARY INFORMATION: We, the U.S. Fish and Wildlife Service, are initiating 5-year reviews under the Endangered Species Act (ESA; 16 U.S.C. 1531 et seq.) for eight northeastern species: The endangered Shenandoah salamander (Plethodon shenandoah), rough rabbitsfoot (Quadrula cylindrica strigillata), Roanoke logperch (Percina rex), and Harperella (Ptilimnium nodosum) and the threatened Madison Cave isopod (Antrolana lira), small whorled pogonia (Isotria medeoloides), sensitive joint-vetch (Aeschynomene virginica), and Cheat Mountain salamander (Plethodon nettingi).

A 5-year review is based on the best scientific and commercial data available at the time of the review. We are requesting submission of any such information that has become available since the most recent status review for each species.

Why do we conduct 5-year reviews and species status assessments?

Under the ESA, we maintain Lists of Endangered and Threatened Wildlife and Plants (which we collectively refer to as the List) in title 50 of the Code of Federal Regulations at 50 CFR 17.11(h) (for wildlife) and 50 CFR 17.12(h) (for plants). Listed wildlife and plants can also be found at http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing species under active review. For additional information about 5-year reviews, refer to our fact sheet at http://www.fws.gov/endangered/what-we-do/recovery-overview.html.

What species are under review?

We are initiating 5-year status reviews of the species in table 1.

Table 1—Species Under Review
Common name | Scientific name | Status | Where listed | Listing date and citation
Shenandoah salamander | Plethodon shenandoah | Endangered | Wherever found | 08/18/1989, 54 FR 34464.
Rough rabbitsfoot | Quadrula cylindrica strigillata | Endangered | Wherever found | 01/10/1997, 62 FR 1647.
Roanoke logperch | Percina rex | Endangered | Wherever found | 08/18/1989, 54 FR 34468.
Harperella | Ptilimnium nodosum | Endangered | Wherever found | 09/28/1988, 53 FR 37978.
Madison Cave isopod | Antrolana lira | Threatened | Wherever found | 10/04/1982, 47 FR 43699.
Small whorled pogonia | Isotria medeoloides | Threatened | Wherever found | 09/09/1982, 47 FR 39827; 10/06/1994, 59 FR 50852.
Sensitive joint-vetch | Aeschynomene virginica | Threatened | Wherever found | 05/20/1992, 57 FR 21569.
Cheat Mountain salamander | Plethodon nettingi | Threatened | Wherever found | 08/18/1989, 54 FR 34464.

What information do we consider in our 5-year reviews and species status assessments?

A 5-year review considers all new information available at the time of the review. In conducting the review, we consider the best scientific and commercial data that have become available since the most recent status review. We are seeking new information specifically regarding:

(1) Species biology, including, but not limited to, life-history and habitat requirements and impact tolerance thresholds;

(2) Historical and current population conditions, including, but not limited to, population abundance, trends, distribution, demographics, and genetics;

(3) Historical and current habitat conditions, including, but not limited to, amount, distribution, and suitability;

(4) Historical and current threats, threat trends, and threat projections in relation to the five listing factors (as defined in section 4(a)(1) of the ESA);

(5) Conservation measures for the species that have been implemented or are planned; and

(6) Other new information, data, or corrections, including, but not limited to, taxonomic or nomenclatural changes, identification of erroneous information contained in the List, and improved analytical methods.

Any new information received will be considered during the 5-year review and will also be useful in evaluating ongoing recovery programs for the species.

Request for New Information

To ensure that 5-year reviews are based on the best available scientific and commercial information, we request new information from all sources. If you submit information, please support it with documentation such as maps, bibliographic references, methods used to gather and analyze the data, and/or copies of any pertinent publications, reports, or letters by knowledgeable sources.

How do I ask questions or provide information?

Please submit your questions, comments, and materials to the appropriate contact in table 2, below. Individuals who are hearing impaired or speech impaired may call the Federal Relay Service at 800-877-8339 for TTY assistance.

Public Availability of Comments

Before including your address, phone number, electronic mail address, or other personal identifying information in your submission, you should be aware that your entire submission—including your personal identifying information—may be made publicly available at any time.

Although you can request that personal information be withheld from public review, we cannot guarantee that we will be able to do so.

Contacts

New information on the species covered in this notice should be submitted by mail or electronic mail to the appropriate contact shown in table 2, by the deadline provided above in DATES.

Table 2—Contacts
Species | Contact person, email | Contact address
Shenandoah salamander | Jennifer Stanhope, jennifer_stanhope@fws.gov | U.S. Fish and Wildlife Service, Virginia Field Office, 6669 Short Lane, Gloucester, VA 23061.
Rough rabbitsfoot | Kim Maison, kim_maison@fws.gov | U.S. Fish and Wildlife Service, Southwestern Virginia Field Office, 330 Cummings Street, Abingdon, VA 24210.
Roanoke logperch | Sumalee Hoskin, sumalee_hoskin@fws.gov | U.S. Fish and Wildlife Service, Virginia Field Office, 6669 Short Lane, Gloucester, VA 23061.
Harperella | Jennifer L. Norris, jennifer_l_norrris@fws.gov | U.S. Fish and Wildlife Service, West Virginia Field Office, 6263 Appalachian Highway, Davis, WV 26260.
Madison Cave isopod | Sumalee Hoskin, sumalee_hoskin@fws.gov | U.S. Fish and Wildlife Service, Virginia Field Office, 6669 Short Lane, Gloucester, VA 23061.
Small whorled pogonia | Cherry Keller, cherry_keller@fws.gov | U.S. Fish and Wildlife Service, Chesapeake Bay Field Office, 177 Admiral Cochrane Drive, Annapolis, MD 21401.
Sensitive joint-vetch | Jennifer Stanhope, jennifer_stanhope@fws.gov | U.S. Fish and Wildlife Service, Virginia Field Office, 6669 Short Lane, Gloucester, VA 23061.
Cheat Mountain salamander | Jennifer L. Norris, jennifer_l_norrris@fws.gov | U.S. Fish and Wildlife Service, West Virginia Field Office, 6263 Appalachian Highway, Davis, WV 26260.

Authority

We publish this document under the authority of the Endangered Species Act of 1973, as amended (16 U.S.C. 1531 et seq.).

Wendi Weber,
Regional Director, Northeast Region.

[FR Doc. 2021-24350 Filed 11-5-21; 8:45 am]

BILLING CODE 4333-15-P